OFFICE OF MANAGEMENT AND BUDGET

Office of Federal Procurement Policy

DEPARTMENT OF DEFENSE

GENERAL SERVICES ADMINISTRATION

NATIONAL AERONAUTICS AND SPACE ADMINISTRATION

48 CFR Parts 1, 17, 33, and 52

[FAC 2025-04; Item II; Docket No. FAR-2025-0052; Sequence No. 1]

Federal Acquisition Regulation; Technical Amendments

AGENCY: Office of Federal Procurement Policy (OFPP), Office of Management and Budget; Department of Defense (DoD); General Services Administration (GSA); and National Aeronautics and Space Administration (NASA).

ACTION: Final rule.

SUMMARY: This document amends the Federal Acquisition Regulation (FAR) to make needed editorial changes.

DATES: Effective June 11, 2025.

FOR FURTHER INFORMATION CONTACT: Ms. Lois Mandell, Regulatory Secretariat Division (MVCB), at 202-501-4755 or GSARegSec@gsa.gov. Please cite FAC 2025-04, Technical Amendments.

SUPPLEMENTARY INFORMATION: This document makes editorial changes to 48 CFR parts 1, 17, 33, and 52.

List of Subjects in 48 CFR Parts 1, 17, 33, and 52

Government procurement.

William F. Clark,
Director, Office of Government-wide Acquisition Policy, Office of Acquisition Policy, Office of Government-wide Policy.

Therefore, OFPP, DoD, GSA, and NASA amend 48 CFR parts 1, 17, 33, and 52 as set forth below:

1. The authority citation for 48 CFR parts 1, 17, 33, and 52 is revised to read as follows:

Authority: 41 U.S.C. 1121(b); 40 U.S.C. 121(c); 10 U.S.C. chapter 4 and 10 U.S.C. chapter 137 legacy provisions (see 10 U.S.C. 3016); and 51 U.S.C. 20113.

PART 1—FEDERAL ACQUISITION REGULATIONS SYSTEM

1.401 [Amended]

2. Amend section 1.401 in paragraph (c) by removing “in 2.101” and adding “in 2.101)” in its place.

PART 17—SPECIAL CONTRACTING METHODS

17.703 [Amended]

3. Amend section 17.703 in paragraph (f) by removing “http://www.acq.osd.mil/dpap/cpic/cp/interagency_acquisition.html” and adding “https://www.acq.osd.mil/asda/dpc/cp/policy/interagency-acquisition.html” in its place.

PART 33—PROTESTS, DISPUTES, AND APPEALS

33.105 [Amended]

4. Amend section 33.105 by removing “http://www.uscfc.uscourts.gov/rules-and-forms” and adding “https://www.uscfc.uscourts.gov/rules-forms” in its place.

PART 52—SOLICITATION PROVISIONS AND CONTRACT CLAUSES

5. Amend section 52.101 by revising the introductory text of paragraph (e)(1) to read as follows:

52.101 Using part 52.

* * * * *

(e) * * *

(1) The matrix may be accessed via the internet at https://www.acquisition.gov/smart-matrix. The matrix contains a column for each principal type and/or purpose of contract (e.g., fixed-price supply, cost reimbursement research and development). The matrix lists the—

* * * * *

6. Amend section 52.102 by revising the introductory text of paragraph (c) to read as follows:

52.102 Incorporating provisions and clauses.

* * * * *

(c) Agency approved provisions and clauses prescribed in agency acquisition regulations, and FAR provisions and clauses not authorized to be incorporated by reference as shown in the matrix at https://www.acquisition.gov/smart-matrix, need not be incorporated in full text, provided the contracting officer includes in the solicitation and contract a statement that—

* * * * *

7. Revise sections 52.300 and 52.301 to read as follows:

52.300 Scope of subpart.

The matrix contains a column for each principal type and/or purpose of contract (see 52.101(e)).

52.301 Solicitation provisions and contract clauses (Matrix).

Note: The FAR matrix is not carried in the CFR. It is available via the internet at https://www.acquisition.gov/smart-matrix.

[FR Doc. 2025-08023 Filed 5-9-25; 8:45 am]

BILLING CODE 6820-EP-P